DEPARTMENT OF TRANSPORTATION

Federal Railroad Administration

Notice of Availability of a Final Tier 1 Environmental Impact Statement, for the Chicago, IL to St. Louis, MO High Speed Rail Corridor Program and Tier 2 Evaluation for the Springfield Rail Improvements Project

AGENCY: Federal Railroad Administration (FRA), United States Department of Transportation (DOT).

ACTION: Notice of availability of final environmental impact statement.

SUMMARY: FRA is issuing this notice to advise the public that a Final Environmental Impact Statement (Final EIS) has been prepared for the Chicago, Illinois to St. Louis, Missouri High Speed Rail Corridor Program. The Final EIS includes a Tier 1 corridor evaluation for the Chicago, Illinois to St. Louis, Missouri high-speed rail corridor and a Tier 2 project-level evaluation for the portion of the high-speed rail corridor in Springfield, Illinois. FRA is the lead federal agency and the Illinois Department of Transportation (IDOT) is the joint-lead state agency for the environmental review process.

IDOT proposes to improve high speed passenger rail service between Chicago, Illinois and St. Louis, Missouri, including the rail lines through Springfield, Illinois. The proposal includes the development of double track along the railroad corridor to improve high-speed passenger service reliability and safety, and to increase the number of trips between Chicago and St. Louis, as well as improvements to railroad crossings, signals, and stations.

The Final EIS presents the Program's purpose and need, identifies all reasonable alternatives, describes the affected environment, analyzes the potential environmental impacts of all the reasonable alternatives and the No-Build Alternative, and identifies the Preferred Alternative and appropriate mitigation measures to minimize the potential environmental impacts.

DATES: FRA will issue a final decision on the proposal after the 30 day wait period which concludes on December 10, 2012, established by Environmental Protection Agency's publication of the notice of availability of the EIS in the Federal Register.

ADDRESSES: Copies of the Final EIS have been sent to affected Federal, State, and local government agencies, stakeholders, and are also available for public review at IDOT, 505 North MacArthur Boulevard, Springfield, Illinois 62702 and online at FRA's Web site: http://www.fra.dot.gov and IDOT's Web site: http://www.idothsr.org.

FOR FURTHER INFORMATION CONTACT: Andrea E. Martin, Environmental Protection Specialist, Office of Railroad Policy and Development, Federal Railroad Administration, U.S. Department of Transportation, 1200 New Jersey Avenue SE., MS-20, Washington, DC 20590; email: andrea.martin@dot.gov; telephone: 202-493-6201 or Joseph E. Shacter, Director, Division of Public and Intermodal Transportation, Illinois Department of Transportation, 100 West Randolph Street, Suite 6-600, Chicago, Illinois 60601; email: Joseph.Shacter@Illinois.gov; telephone: 312-793-2116.

SUPPLEMENTARY INFORMATION: The proposed Program would include the development of a double track and railroad crossings, signals, and stations along a preferred route of existing railroad corridors between Chicago, Illinois and St. Louis, Missouri, to improve high-speed passenger service reliability and safety, and increase the number of trips. This Program of improvements would be in addition to those associated with FRA studies within the Chicago to St. Louis Corridor previously conducted from 2004 and 2011 and being implemented by IDOT.

The Final EIS identifies and evaluates the environmental and transportation impacts for corridor capacity enhancements, including double track. The current Chicago to St. Louis Corridor operates predominantly on a single track that is shared by both traditional freight and Amtrak passenger rail service.

A tiered environmental process was used to evaluate the proposed Program. A tiered environmental process is a phased environmental review used in the development of complex projects. Under this process, the Tier 1 EIS addresses broad, corridor issues and alternatives. Tier 2 environmental documents address individual component projects of the Selected Alternative carried forward from the Tier 1 environmental process. Concurrently with this Tier 1 study of the full Chicago to St. Louis Corridor, IDOT and FRA conducted a Tier 2 evaluation for the portion of the High-Speed Rail Corridor in Springfield, IL.

In June 2012, IDOT circulated the Draft Tier 1 EIS for a 45-day public and agency review and comment period pursuant to 40 CFR 1502.9(b). The Draft Tier 1 EIS analyzed a No-Build Alternative and various Build Alternatives. IDOT and FRA convened public hearings in August 2012 in Chicago, Joliet, Springfield, Bloomington, and Alton, Illinois.

The IDOT and FRA considered the entire record and compared the potential environmental impacts of the Tier 1 Build Alternatives, as well as impacts of the No-Build Alternative, in order to select the Preferred Alternative. The Preferred Alternative follows the existing Amtrak passenger corridor, except through Springfield and north of Joliet. Between Chicago and Joliet, the Preferred Alternative follows the Metra Rock Island District line from Joliet Union Station to the Norfolk Southern (NS) line near 40th Street in Chicago, the NS to Amtrak south of Union Station, and Amtrak owned tracks to Union Station. The Preferred Alternative allows for eight daily round trips at 110 miles per hour (mph) on two tracks.

Other improvements also identified in the Final EIS include sidings, pedestrian grade separations at the stations, and grade separations along major roadways. Individual component projects along the corridor would be advanced and studied in greater detail as future Tier 2 project-level evaluations, as part of the tiered environmental review process.

A Tier 2 project-level evaluation for improvements in Springfield is also included within the Final EIS. The Springfield Rail Improvements Project has been advanced concurrently as a component of the overall corridor program. The Tier 2 evaluation further considers the environmental and transportation impacts of alternatives following different rail routes through the City of Springfield, Illinois. The evaluation addresses safety, noise, and traffic delays that would result from increased volumes of both passenger and freight rail traffic on the three north-south rail corridors that pass through the City of Springfield. In Springfield (as identified in the Tier 2 project-level evaluation), the Preferred Alternative is to shift Union Pacific (UP) freight as well as new and existing Amtrak passenger trains to an expanded NS corridor along Tenth Street.

This Final EIS has been prepared in compliance with the provisions of Section 102(2)(c) of the National Environmental Policy Act of 1969 (NEPA) (42 U.S.C. 4321 et seq.), the Council on Environmental Quality (CEQ) regulations implementing NEPA (40 CFR part 1500 et seq.), and FRA's Procedures for Considering Environmental Impacts (64 FR 28545; May 26, 1999).

Issued in Washington, DC, on November 15, 2012.
Corey W. Hill,
Director, Office of Passenger and Freight Programs.

[FR Doc. 2012-28301 Filed 11-20-12; 8:45 am]

BILLING CODE 4910-06-P